DEPARTMENT OF ENERGY

Federal Energy Regulatory Commission

[Project No. 1981-010-Wisconsin]

Oconto Electric Cooperative; Notice of Availability of Draft Environmental Assessment

November 8, 2000.

In accordance with the National Environmental Policy Act of 1969 and the Federal Energy Regulatory Commission's (Commission) regulations, 18 CFR Part 380 (Order No. 486, 52 FR 47897), the Office of Energy Projects has reviewed the application for a new license for the existing Stiles Hydroelectric Project, located on the Oconto River, in the township of Stiles, Oconto County, Wisconsin, and has prepared a draft Environmental Assessment (EA) for the project. In the draft EA, the Commission staff has analyzed the potential environmental effects of the project and has concluded that the approval of the project, with appropriate environmental measures, would not constitute a major Federal action significantly affecting the quality of the human environment.

Copies of the draft EA are available for review in the Public Reference Branch, Room 2-A, of the Commission's offices at 888 First Street, NE, Washington, DC 20426. The draft EA may also be viewed on the internet at http://www.ferc.fed.us/online/rims.htm. Please call (202) 208-2222 for assistance.

Any comments should be filed within 45 days from the date of this notice and should be addressed to David P. Boergers, Secretary, Federal Energy Regulatory Commission, 888 First Street, NE, Washington, DC 20426. Please affix “Stiles Hydroelectric Project, FERC Project No. 1981-010” to all comments. For further information, please contact Patti Leppert at (202) 219-2767. Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-29205 Filed 11-14-00; 8:45 am]

BILLING CODE 6717-01-M